ENVIRONMENTAL PROTECTION AGENCY

[EPA-HQ-OPP-2013-0001; FRL-9902-31]

SFIREG Full Committee; Notice of Public Meeting

AGENCY: Environmental Protection Agency (EPA).

ACTION: Notice.

SUMMARY: The Association of American Pesticide Control Officials (AAPCO)/State FIFRA Issues Research and Evaluation Group (SFIREG), Full Committee will hold a 2-day meeting, beginning on December 9, 2013 and ending December 10, 2013. This notice announces the location and times for the meeting and sets forth the tentative agenda topics.

DATES: The meeting will be held on Monday, December 9, 2013 from 8:30 a.m. to 5 p.m. and 8:30 a.m. to noon on Tuesday, December 10, 2013.

To request accommodation of a disability, please contact the person listed under FOR FURTHER INFORMATON CONTACT, preferably at least 10 days prior to the meeting, to give EPA as much time as possible to process your request.

ADDRESSES: The meeting will be held at EPA. One Potomac Yard (South Bldg.) 2777 Crystal Dr., Arlington VA, 1st Floor, South Conference Room.

FOR FURTHER INFORMATION CONTACT: Ron Kendall, Field External Affairs Division, Office of Pesticide Programs, Environmental Protection Agency, 1200 Pennsylvania Ave. 7506P NW., Washington, DC 20460-0001; telephone number: (703) 305-5561; fax number: (703) 305-5884; email address: kendall.ron@epa.gov. or Grier Stayton, SFIREG Executive Secretary, P.O. Box 466, Milford DE 19963; telephone number (302) 422-8152; fax (302) 422-2435; email address: Grier Stayton at aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to: Those persons who are or may be required to conduct testing of chemical substances under the Federal Food, Drug and Cosmetics Act (FFDCA), or the Federal Insecticide, Fungicide, and Rodenticide Act (FIFRA) and those who sell, distribute or use pesticides, as well as, any non-government organization.

If you have any questions regarding the applicability of this action to a particular entity, consult the person listed under FOR FURTHER INFORMATION CONTACT.

B. How can I get copies of this document and other related information?

The docket for this action, identified by docket ID number EPA-HQ-OPP-2013-0001 is available at http://www.regulations.gov, or at the Office of Pesticide Programs Regulatory Public Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. Issue Papers Status

2. Status of Non-Cropland Issue Resolution

3. Endangered Species Act Program Status

4. Soil Fumigation Risk Mitigation

5. Status of Pollinator Protection Issues Policy Development

6. Discussion of Herbicide Residues in Compost Activities

7. Cooperative Agreement Guidance/Grant Template

8. Project Officer Training

9. Rewrite of 24c Guidance

10. National Pesticide Information Center/State Lead Agency Information Exchange/OPP Use of Data

11. Update on 25b Letter From EPA for States to Use

12. Program Performance Measures Development and Implementation

13. Tribal Pesticide Program Council (TPPC) Report/Tribal Pesticide Policy Council/State Lead Agency Project Initiative

14. Regulator in Residence Activities

III. How can I request to participate in this meeting?

This meeting is open for the public to attend. You may attend the meeting without further notification.

List of Subjects

Environmental protection.

Dated: November 4, 2013.
Jay S. Ellenberger,
Acting Director, Field External Affairs Division, Office of Pesticide Programs.

[FR Doc. 2013-27825 Filed 11-19-13; 8:45 am]

BILLING CODE 6560-50-P